DEPARTMENT OF COMMERCE

National Oceanic and Atmospheric Administration

[RTID 0648-XD918]

North Pacific Fishery Management Council; Public Meeting

AGENCY: National Marine Fisheries Service (NMFS), National Oceanic and Atmospheric Administration (NOAA), Commerce.

ACTION: Notice of web conference.

SUMMARY: The North Pacific Fishery Management Council (Council) Scientific and Statistical Committee meeting will be held on May 17, 2024.

DATES: The meeting will be held on Friday, May 17, 2024, from 9 a.m. to 12 p.m., Alaska Time.

ADDRESSES: The meeting will be a web conference. Join online through the link at https://meetings.npfmc.org/Meeting/Details/3045.

Council address: North Pacific Fishery Management Council, 1007 W 3rd Ave, Suite 400, Anchorage, AK 99501-2252; telephone: (907) 271-2809. Instructions for attending the meeting via video conference are given under SUPPLEMENTARY INFORMATION, below.

FOR FURTHER INFORMATION CONTACT: Diana Evans, Council staff; phone: (907) 271-2809; email: diana.evans@noaa.gov. For technical support, please contact our admin Council staff, email: npfmc.admin@noaa.gov.

SUPPLEMENTARY INFORMATION:

Agenda

Friday, May 17, 2024

The SSC will meet to recommend research priorities. The agenda is subject to change, and the latest version will be posted at https://meetings.npfmc.org/Meeting/Details/3045 prior to the meeting, along with meeting materials.

Connection Information

You can attend the meeting online using a computer, tablet, or smart phone; or by phone only. Connection information will be posted online at: https://meetings.npfmc.org/Meeting/Details/3045. The meeting will be recorded and a link to the recording will be posted on the eAgenda once the meeting concludes.

Public Comment

Public comment letters will be accepted in advance of the meeting and should be submitted electronically to https://meetings.npfmc.org/Meeting/Details/3045. The deadline to submit public comments is on May 15, 2024, at 5 p.m., Alaska Time.

Authority: 16 U.S.C. 1801 et seq.

Dated: April 25, 2024.
Rey Israel Marquez,
Acting Deputy Director, Office of Sustainable Fisheries, National Marine Fisheries Service.

[FR Doc. 2024-09291 Filed 4-29-24; 8:45 am]

BILLING CODE 3510-22-P